DEPARTMENT OF DEFENSE

Office of the Secretary

[DoD-2008-OS-0023]

Privacy Act of 1974; Systems of Records

AGENCY: Defense Threat Reduction Agency.

ACTION: Notice To Add a System of Records.

SUMMARY: The Defense Threat Reduction Agency is proposing to add a system of records to its inventory of record systems subject to the Privacy Act of 1974 (5 U.S.C. 552a), as amended.

DATES: This action will be effective without further notice on April 9, 2008, unless comments are received that would result in a contrary determination.

ADDRESSES: Send comments to the Freedom of Information and Privacy Office, Defense Threat Reduction Agency, 8725 John J. Kingman Road, Fort Belvoir, VA 22060-6201

FOR FURTHER INFORMATION CONTACT: Ms. Brenda Carter at (703) 767-1771.

SUPPLEMENTARY INFORMATION: The Defense Threat Reduction Agency notices for systems of records subject to the Privacy Act of 1974 (5 U.S.C. 552a), as amended, have been published in the Federal Register and are available from the address above.

The proposed systems reports, as required by 5 U.S.C. 552a(r) of the Privacy Act of 1974, as amended, was submitted on February 29, 2008, to the House Committee on Oversight and Government Reform, the Senate Committee on Homeland Security and Governmental Affairs, and the Office of Management and Budget (OMB) pursuant to paragraph 4c of Appendix I to OMB Circular No. A-130, `Federal Agency Responsibilities for Maintaining Records About Individuals,' dated February 8, 1996 (February 20, 1996, 61 FR 6427).

March 3, 2008.
L.M. Bynum,
Alternate OSD Federal Register Liaison Officer, Department of Defense.

HDTRA 026

System name:

DTRA Telework Program Records.

System location:

Employee Relations and Work Life Division, Human Capital Office, Defense Threat Reduction Agency, 8725 John J. Kingman Road MSC 6201, Fort Belvoir, VA 22060-6201.

Categories of individuals covered by the system:

Individuals who have been granted approval to telework on a Regular, Recurring, or Situational basis in accordance with DTRA Telework Program.

Categories of records in the system:

Records include individual's name; office; office phone; official duty station; alternative worksite address (GSA Telecenter, Home, Other Alternative Worksite); mileage savings; time savings; work schedule and tour of duty at the alternative worksite; regular work schedule (8 hours a day, flexitour or compressed); telework schedule; and DTRA Form 147, Telework Agreement/Program (Telework Request and Approval Form, Self-Certification Home and Alternative Worksites, excluding GSA Telecenters, Telework Safety Checklist).

Authority for maintenance of the system:

5 U.S.C. 6120, Telecommuting in Executive Agencies; Under Secretary of Defense for Personnel and Readiness Memorandum, Department of Defense Telework Policy and Guide for Civilian Employees, October 22, 2001; and DoD Instruction 1035.1, Telework Policy for Department of Defense, April 3, 2007, DTRA Instruction 1100.2 Defense Threat Reduction Agency Telework Program, August 11, 2006.

Purpose(s):

Records are used by supervisors and more frequently used by the telework program coordinators for managing, evaluating, and reporting DTRA Telework Program activity/participation. Data on participation in the DTRA Telework Program, minus personal identifiers, may also be provided to the Department of Defense (DoD) for a consolidated DoD response to the Office of Personnel Management (OPM) Telework Survey.

Routine uses of records maintained in the system, including categories of users and the purposes of such uses:

In addition to those disclosures generally permitted under 5 U.S.C. 552a(b) of the Privacy Act, these records or information contained therein may specifically be disclosed outside the DOD as a routine use pursuant to 5 U.S.C. 552a(b)(3) as follows:

The Home and Alternative Worksites, excluding GSA Telecenters, Telework Safety Checklist may be disclosed to the Department of Labor when an employee is injured while working at home. Data on participation in the DTRA Telework Program, minus personal identifiers, may also be provided to the Department of Defense (DoD) for a consolidated DoD response to the Office of Personnel Management (OPM) Telework Survey.

Policies and practices for storing, retrieving, accessing, retaining, and disposing of records in the system:

Storage:

Records are maintained in paper and electronic media.

Retrievability:

By Name and/or office/official duty station.

Safeguards:

Access is limited to the Employee Relations and Work Life Division, Human Capital Office. Case records are maintained in locked security containers. Automated records are controlled by limiting physical access to terminals and by the use of passwords. Work areas are sight controlled during normal duty hours. Security guards and an intrusion alarm system protect buildings. A risk assessment has been performed and will be made available upon request. The electronic database is further restricted by the use of Common Access Cards in order to access the excel spreadsheet.

Retention and disposal:

Records are destroyed 1 year after employee's participation in the program ends or destroyed when superseded or obsolete.

System manager(s) and address:

Human Resources Specialist (Employee Relations), Employee Relations and Work Life Division, Human Capital Office, Defense Threat Reduction Agency, 8725 John J. Kingman Road, MSC 6201, Fort Belvoir, VA 22060-6201.

Notification procedure:

Individuals seeking to determine whether information about themselves is contained in this system should address written inquiries to the Human Resources Specialist (Employee Relations), Employee Relations and Work Life Division, Human Capital Office, Defense Threat Reduction Agency, 8725 John J. Kingman Road, MSC 6201, Fort Belvoir, VA 22060-6201.

Record access procedures:

Individuals seeking access to information about themselves contained in this system should address written inquiries to the Human Resources Specialist (Employee Relations), Employee Relations and Work Life Division, Human Capital Office, Defense Threat Reduction Agency, 8725 John J. Kingman Road, MSC 6201, Fort Belvoir, VA 22060-6201.

Individuals must supply their full name, address, and a telephone number where the requester can be contacted and the DTRA detachment or Enterprise/Staff Office where employed at the time they requested to participate in the DTRA Telework Program.

Contesting record procedures:

The DTRA rules for accessing records, for contesting contents, and appealing initial agency determinations are contained in 32 CFR part 318, or may be obtained from the Human Resources Specialist (Employee Relations), Employee Relations and Work Life Division, Human Capital Office, Defense Threat Reduction Agency, 8725 John J. Kingman Road, MSC 6201, Fort Belvoir, VA 22060-6201.

Record source categories:

Data is supplied by telework participants and their supervisors.

Exemptions claimed for the system:

None.

[FR Doc. E8-4712 Filed 3-7-08; 8:45 am]

BILLING CODE 5001-06-P